DEPARTMENT OF STATE

[Public Notice: 12340]

Notice of Meeting of the President's Advisory Council on African Diaspora Engagement

ACTION: Notice of Federal advisory committee meeting.

SUMMARY: Pursuant to the Federal Advisory Committee Act, the Department of State hereby provides notice of the next meeting of the President's Advisory Council on African Diaspora Engagement (“the Advisory Council”).

DATES: Monday, March 18, 2024.

ADDRESSES: This event will take place in-person in Atlanta, Georgia.

FOR FURTHER INFORMATION CONTACT: For additional information and for those interested in participating, please contact Mr. Matthew Becker, Senior Foreign Affairs Officer in the Office of the Assistant Secretary, Bureau of African Affairs, U.S. Department of State by email at BeckerMA@state.gov or by phone at (202) 647-1790.

SUPPLEMENTARY INFORMATION: Pursuant to the Federal Advisory Committee Act, 5 U.S.C. 1001 et seq., and 41 CFR 102-3.65, the Advisory Council will host a public plenary session meeting. The primary mission of the Advisory Council is to provide counsel to the President on enhancing the connections between the United States Government and the African diaspora within the United States, aligning with the objectives outlined in the U.S. Strategy Toward Sub-Saharan Africa.

This meeting is for planning purposes for the Advisory Council to discuss 2024 priorities and review proposed initiatives, including programs to expand cultural and education exchange between Africa and the United States, and programs to increase participation of members of the African diaspora in the United States related to trade, investment, economic growth, and development programs relating to Africa. The Advisory Council will also review a calendar of additional upcoming events focused on African diaspora engagement, for potential Advisory Council member participation.

The activities of the Advisory Council encompass strategies to advance equity and opportunity for African diaspora communities, ways to support the United Nations' Permanent Forum on People of African Descent, programs and initiatives to strengthen cultural, social, political, and economic ties between African communities, the global African diaspora, and the United States, and programs and initiatives to increase participation of members of the African diaspora in the United States with regard to trade, investment, economic growth, and development programs relating to Africa.

Established in accordance with Executive Order 14089, the Advisory Council operates under the overarching authority of the Secretary of State and the Department of State, as outlined in Title 22 of the United States Code. Specifically, its mandate aligns with Section 2656 of that Title and adheres to the Federal Advisory Committee Act.

This meeting is open to the public. Priority for in-person seating will be given to members of the Advisory Council and remaining seating will be reserved on a first-come, first-served basis. Interested members of the public may reserve a seat by contacting Matthew Becker at BeckerMA@state.gov.

(Authority: 5 U.S.C. 1001 et seq. and 22 U.S.C. 2651a.)

Deniece L. Laurent-Mantey,
Executive Director, The President's Advisory Council on African Diaspora Engagement, Department of State.

[FR Doc. 2024-04301 Filed 2-29-24; 8:45 am]

BILLING CODE 4710-26-P